DEPARTMENT OF COMMERCE

National Oceanic and Atmospheric Administration

RIN 0648-XY98

North Pacific Fishery Management Council; Public Meetings

AGENCY: National Marine Fisheries Service (NMFS), National Oceanic and Atmospheric Administration (NOAA), Commerce.

ACTION: Notice of public meetings.

SUMMARY: The North Pacific Fishery Management Council (Council) and its advisory committees will hold public meetings, October 4-12, 2010.

DATES: The meetings will be held Monday, October 4, 2010 through Tuesday, October 12, 2010. See SUPPLEMENTARY INFORMATION for specific dates and times.

ADDRESSES: The meetings will be held at the Captain Cook Hotel, 939 West 5th Avenue, Anchorage, AK.

Council address: North Pacific Fishery Management Council, 605 W. 4th Avenue, Suite 306, Anchorage, AK 99501-2252.

FOR FURTHER INFORMATION CONTACT: David Witherell, Council staff; telephone: (907) 271-2809.

SUPPLEMENTARY INFORMATION: The Council will begin its plenary session at 8 a.m. on Wednesday, October 6 continuing through Tuesday, October 12. The Council's Advisory Panel (AP) will begin at 8 a.m., Monday, October 4 and continue through Friday, October 8. The Scientific and Statistical Committee (SSC) will begin at 8 a.m. on Monday, October 4 and continue through Wednesday, October 6, 2010. The Enforcement Committee will meet Tuesday, October 5 from 1 p.m. to 5 p.m. All meetings are open to the public, except executive sessions.

Council Plenary Session:

The agenda for the Council's plenary session will include the following issues. The Council may take appropriate action on any of the issues identified.

Reports:

1. Executive Director's Report

NMFS Management Report (including review of the draft regulations to implement the Council's (1) halibut catch sharing plan and (2) Gulf of Alaska (GOA) rockfish program catch share program for consistency with Council intent when it adopted these programs in October 2008 and June 2010)

ADF&G Report (including final estimates of 2009 charter halibut catches in 2C and 3A)

NOAA Enforcement Report

U.S. Coast Guard Report

U.S. Fish & Wildlife Service Report

Protected Species Report (Report from NMFS on Steller Sea Lion (SSL) Reasonable and Prudent Alternative (RPA) measures; Council discussion of next steps)

2. Observer Program Restructuring: Receive report from Observer Committee; final action on program restructuring.

3. Bering Sea Aleutian Island (BSAI Crab Stock Assessment Fishery Evaluation (SAFE) report and Overfishing Limits (OFLs): Review and approve SAFE and annual catch specifications.

4. BSAI Crab Annual Catch Limits (ACLs)/snow crab Rebuilding Plan: Final action on amendment to establish ACLs and rebuilding plan.

5. Scallop ACLs: Final action to establish scallop ACLs.

6. GOA Tanner Crab Bycatch: Final action to close areas to minimize bycatch of Tanner crabs.

7. Arrowtooth Flounder Maximum Retainable Amounts (MRAs): Final action to revise MRAs of groundfish in BSAI arrowtooth fishery.

8. Research Priorities: Finalize 5-year research priorities.

9. BSAI Crab Issues: Initial review Pribilof Bristol Bay Red King Crab rebuilding plan; review discussion paper on Economic Data Collection, action as necessary.

10. Groundfish Specifications: Receive Plan Team report; adopt proposed catch limits.

11. Miscellaneous Issues: Review discussion paper on GOA halibut Prohibited Species Catch (PSC) (T); review regulations and forms - BSAI Chinook Salmon Bycatch Electronic Data Reporting; annual review Groundfish Workplan; preliminary screening of Habitat Areas of Particular Concern (HAPC).

12. Staff Tasking: Review Committees and tasking.

13. Other Business

The SSC agenda will include the following issues:

1. BSAI Crab ACLs/Rebuilding

2. BSAI Crab SAFE/OFLs

3. Scallop ACLs

4. BSAI Crab Issues

5. Research Priorities

6. Groundfish Specifications

The Advisory Panel will address most of the same agenda issues as the Council, except for #1 reports. The Agenda is subject to change, and the latest version will be posted at http://www.alaskafisheries.noaa.gov/npfmc/ Although non-emergency issues not contained in this agenda may come before the Council for discussion, in accordance with the Magnuson-Stevens Fishery Conservation and Management Act (Magnuson-Stevens Act), those issues may not be the subject of formal action during these meetings. Actions will be restricted to those issues specifically identified in this notice and any issues arising after publication of this notice that require emergency action under Section 305(c) of the Magnuson-Stevens Act, provided the public has been notified of the Council's intent to take final action to address the emergency.

Special Accommodations

These meetings are physically accessible to people with disabilities. Requests for sign language interpretation or other auxiliary aids should be directed to Gail Bendixen at (907) 271-2809 at least 7 working days prior to the meeting date.

Dated: September 9, 2010.
Tracey L. Thompson,
Acting Director, Office of Sustainable Fisheries, National Marine Fisheries Service.

[FR Doc. 2010-22864 Filed 9-13-10; 8:45 am]

BILLING CODE 3510-22-S